DEPARTMENT OF HOUSING AND URBAN DEVELOPMENT

[Docket No. FR-4410-FA-11]

Announcement of Funding Awards for the Youthbuild Program, Fiscal Year 1999

AGENCY: Office of the Assistant Secretary for Community Planning and Development, HUD.

ACTION: Notice of funding awards.

SUMMARY: In accordance with section 102 (a)(4)(C) of the Department of Housing and Urban Development Reform Act of 1989, this announcement notifies the public of funding decisions made by the Department in a competition for funding under the Super Notice of Funding Availability (SuperNOFA) for the Youthbuild Program. This announcement contains the names of the awardees and the amounts of the awards made available by HUD.

FOR FURTHER INFORMATION CONTACT: Mr. Donner Buchet, Director, Community and Economic Development Services, Office of Community Planning and Development, 451 7th Street, SW, Washington, DC 20410; telephone (202) 708-2290 (this is not a toll-free number). Hearing-and speech-impaired persons may access this number via TTY by calling the Federal Relay Service toll-free at 1-800-877-8339. For general information on this and other HUD programs, call Community Connections at 1-800-998-9999 or visit the HUD Website at http://www.hud.gov.

SUPPLEMENTARY INFORMATION: The Youthbuild Program was enacted in 1992 and is authorized under Subtitle D of title IV of the Cranston-Gonzalez National Affordable Housing (the Act), as added by section 164 of the Housing and Community Development Act of 1992 (Pub. L. 102-550, 106 Stat. 3723, 42 U.S.C. 12899. The competition was announced in the SuperNOFA published in the Federal Register on February 26, 1999. Applications were rated and selected for funding on the basis of selection criteria contained in that Notice.

The Catalog of Federal Domestic Assistance number for this program is 14.243.

The Youthbuild Program is designed to provide disadvantaged young adults with education, employment, and leadership skills. Youthbuild provides funding to local private and public non-profit agencies, State or local housing agencies or authorities, State or local units of general local government, or any entity eligible to provide education and employment training under other Federal employment training programs, as further defined in HUD regulation 24 CFR 585.4. With HUD and other private and public funds, eligible agencies and organizations assist disadvantaged young adults between the ages of 16-24 years in completing their high school education, and provide them with construction and leadership skills to further their opportunities for gainful employment.

A total of $39,789,726 was awarded to 88 projects nationwide. In accordance with section 102(a)(4)(C) of the Department of Housing and Urban Development Reform Act of 1989 (103 Stat. 1987. 42 U.S.C. 3545), the Department is publishing the grantees and amounts of the awards in Appendix A to this document.

Dated: January 18, 2000.
Cardell Cooper,
Assistant Secretary for Community Planning and Development.

Appendix A_FY 1999 Youthbuild Competitive Grants

State and city | Grant | Applicant
Alabama:
Birmingham | 300,000 | Birmingham Health Care for the Homeless.
Mobile | 300,000 | Mobile Housing Board.
Arizona: West Memphis | 350,000 | Mid-South Community College.
Arizona:
Guadalupe | 399,950 | Town of Guadalupe.
Phoenix | 650,000 | City of Phoenix.
California:
Fresno | 400,000 | Fresno County Economic Opportunities Commission.
Gardena | 650,000 | Century Center for Economic Opportunity (CCEO).
Los Angeles | 650,000 | Youth Employment Systems, Inc.
Los Angeles | 650,000 | Pacific Asian Consortium In Employment.
Menlo Park | 299,990 | Opportunities Industrialization Center West, Inc.
Richmond | 400,000 | City of Richmond.
Riverside | 300,000 | Ujima (People Helping People) Inc.
Sacramento | 650,000 | Sacramento Housing and Redevelopment Agency.
San Francisco | 300,000 | Asian Neighborhood Design, Inc.
San Francisco | 400,000 | San Francisco Conservation Corps.
Santa Rosa | 400,000 | Sonoma County People for Economic Opportunity.
Sun Valley | 650,000 | Community Partnership Development Corporation.
Venice | 400,000 | Venice Community Housing Corporation.
Colorado: Ignacio | 336,285 | Southern Ute Community Action Programs, Inc.
Connecticut:
Hartford | 650,000 | Co-Opportunity, Inc.
New Britain | 400,000 | New Britain.
District Columbia:
Washington | 399,890 | Latin American Youth Center.
Washington | 400,000 | Sasha Bruce Youthwork, Inc.
Washington | 650,000 | ARCH Training Center, Inc.
Florida:
Clearwater | 400,000 | Career Options of Pinellas, Inc.
Gainesville | 400,000 | Gainesville Housing Authority.
Miami | 300,000 | YWCA of Greater Miami & Dade Co.
Georgia: Marietta | 299,985 | Cobb Housing, Inc.
Hawaii: Honolulu | 350,000 | City & County of Honolulu.
Idaho: Nampa | 193,756 | Nampa Community Based Development Organization.
Illinois:
Bloomington | 400,000 | YouthBuild McLean County.
East Saint Louis | 300,000 | Emerson Park Development Corporation.
Rockford | 650,000 | Comprehensive Community Solutions, Inc.
Indiana: Gary | 400,000 | Tree of Life Community Development Corp. & Care Cent.
Kentucky: Lexington | 300,000 | Comm. Action Council for Lexington-Fayette, Bourbon.
Louisiana: Houma | 650,000 | Terrebonne Parish Consolidated Government.
Massachusetts:
Brockton | 400,000 | Old Colony Y Services Corporation.
Cambridge | 395,485 | Just A Start Corporation.
New Bedford | 400,000 | People Acting in Community Endeavors, Inc.
Roxbury | 650,000 | Youthbuild Boston, Inc.
Worcester | 399,794 | Mass. Job Training, Inc.
Maryland:
Baltimore | 400,000 | The Housing Authority of Baltimore City.
Baltimore | 650,000 | Community Building In Partnership, Inc.
Maine: Portland | 400,000 | Portland West Neighborhood Planning Council.
Michigan:
Ann Arbor | 400,000 | Wastenaw County, Michigan.
Detroit | 646,083 | Young Detroit Builders.
Minnesota: Chaska | 300,000 | Carver-Scott Educational Cooperative.
Missouri: Saint Louis | 400,000 | Housing Authority of St. Louis County.
Mississippi: Moorhead | 650,000 | Mississippi Delta Community College.
North Carolina: Greensboro | 300,000 | University of North Carolina at Greensboro.
New Mexico:
Albuquerque | 400,000 | Youthbuild New Mexico Coalition, Inc.
Taos | 400,000 | Taos County.
New York:
Albany | 650,000 | City of Albany.
Bronx | 399,964 | South Bronx Overall Economic Development Corp.
Bronx | 400,000 | Corporation for Youth Energy Corps. Inc.
Bronx | 360,000 | Banana Kelly Community Improvement Assoc.
Brooklyn | 299,851 | Urban Strategies, Inc.
New York | 400,000 | YMCA of Greater New York.
New York | 400,000 | Episcopal Social Services, Inc.
New York | 650,000 | Youth Action Programs & Homes, Inc.
Rochester | 350,000 | The Urban League of Rochester, N.Y. Inc.
Troy | 650,000 | Commission on Economic Opportunity for Renss. County.
Utica | 400,000 | Utica Community Action, Inc.
Ohio:
Dayton | 400,000 | Improved Solutions for Urban Systems.
McArthur | 300,000 | Vinton Community Commissioners.
Oklahoma:
Oklahoma City | 400,000 | City of Oklahoma City.
Tulsa | 650,000 | Housing Authority of the City of Tulsa.
Oregon:
Corvallis | 395,724 | Community Services Consortium.
Portland | 650,000 | City of Portland, Oregon.
Pennsylvania:
Greensburg | 650,000 | Private Industry Council of Westmoreland/Fayette, Inc.
Philadelphia | 399,085 | Impact Services Corporation.
Philadelphia | 650,000 | Phila. Youth for Change Charter School.
Pittsburgh | 650,000 | Youthbuild Pittsburgh, Inc.
York | 650,000 | Crispus Attucks Community Development Corp.
Rhode Island: Providence | 400,000 | Providence Plan.
Tennessee: Memphis | 399,945 | Tennessee Technology Center at Memphis.
Texas:
Brownsville | 400,000 | Community Development Corp. of Brownsville.
Crosbyton | 300,000 | Caprock Community Action Association, Inc.
Harlingen | 400,000 | Harlingen Community Development Corporation.
Houston | 650,000 | Houston Community College System.
New Waverly | 398,522 | Gulf Coast Trades Center.
San Antonio | 400,000 | George Gervin Youth Center, Inc.
Virginia: Waynesboro | 525,417 | Waynesboro Redevelopment and Housing Authority.
Vermont: Burlington | 400,000 | King Street Youth Center
Washington: Tacoma | 300,000 | Tacoma-Pierce County Employment & Training Consortium.
West Virginia:
Charleston | 590,000 | Multi-County Community Action Against Poverty, Inc.
Kincaid | 650,000 | Southern Appalachian Labor School.
Morgantown | 400,000 | Human Resource Development & Employment, Inc.

[FR Doc. 00-2044 Filed 1-28-00; 8:45 am]

BILLING CODE 4210-29-P